DEPARTMENT OF HEALTH AND HUMAN SERVICES

National Institutes of Health

Center for Scientific Review; Amended Notice of Meeting

Notice is hereby given of a change in the meeting of the Bioengineering of Neuroscience, Vision and Low Vision Technologies Study Section, June 16, 2021, 8:00 a.m. to June 17, 2021, 07:00 p.m., National Institutes of Health, Rockledge II, 6701 Rockledge Drive, Bethesda, MD, 20892 which was published in the Federal Register on June 08, 2021, 86 FR 30466.

This notice is being amended to change the meeting start time from 8:00 a.m. to 10:00 a.m. The meeting is closed to the public.

Dated: June 9, 2021.
David W. Freeman,
Program Analyst, Office of Federal Advisory Committee Policy.

[FR Doc. 2021-12413 Filed 6-11-21; 8:45 am]

BILLING CODE 4140-01-P